DEPARTMENT OF JUSTICE

Notice of Lodging of Proposed Consent Decree Under The Clean Air Act and Resource Conservation and Recovery Act

On March 1, 2017, the Department of Justice lodged a proposed consent decree with the United States District Court for the Eastern District of Wisconsin, in the lawsuit entitled United States of America v. Maynard Steel Casting Company, Civil Action No. 2:17-cv-00292.

The United States filed this lawsuit against the Maynard Steel Casting Company (“Defendant”) under the Clean Air Act and the Resource Conversation and Recovery Act. The complaint seeks injunctive relief and civil penalties for violations of the Clean Air Act (“CAA”), 42 U.S.C. 7401 et seq., the Resource Conservation and Recovery Act (“RCRA”), 42 U.S.C. 6901 et seq., and their implementing regulations.

The consent decree resolves the allegations in the complaint and requires the Defendant to: (1) Perform a study to evaluate the emissions capture and control effectiveness of each of its air pollution control systems; (2) conduct performance stack tests; (3) conduct monitoring of visible emissions; (4) install and operate various monitors to alert operators of malfunctions with the air pollution control systems; (5) perform air dispersion modeling; (6) continue implementing and complying with RCRA requirements for the storage, handling, and transport, and disposal of its hazardous waste; and (7) pay a civil penalty based on an inability-to-pay analysis. The Defendant will pay civil penalties of $25,000 to the United States.

The publication of this notice opens a period for public comment on the consent decree. Comments should be addressed to the Assistant Attorney General, Environment and Natural Resources Division, and should refer to United States of America v. Maynard Steel Casting Company, D.J. Ref. No. 90-5-2-1-10613. All comments must be submitted no later than thirty (30) days after the publication date of this notice. Comments may be submitted either by email or by U.S. mail:

To submit comments: | Send them to:
By email | pubcomment-ees.enrd@usdoj.gov.
By U.S. mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

For a paper copy of the entire Consent Decree with appendices (142 pages at 25 cents per page reproduction cost), please enclose a check or money order for $35.50 made payable to the United States Treasury. For a paper copy without the appendices and signature pages, the cost is $13.25.

Randall M. Stone,
Acting Assistant Section Chief, Environmental Enforcement Section, Environment and Natural Resources Division.

[FR Doc. 2017-04364 Filed 3-6-17; 8:45 am]

BILLING CODE 4410-15-P